SECURITIES AND EXCHANGE COMMISSION

In the Matter of Asia Global Holdings Corp., Ikona Gear International, Inc., Imagin Molecular Corp. (n/k/a The Planet Bottle Corporation), Sungold International Holdings Corp., and Westergaard.com, Inc., Order of Suspension of Trading File No. 500-1

May 28, 2014.

It appears to the Securities and Exchange Commission that there is a lack of current and accurate information concerning the securities of Asia Global Holdings Corp. because it has not filed any periodic reports since the period ended June 30, 2011.

It appears to the Securities and Exchange Commission that there is a lack of current and accurate information concerning the securities of Ikona Gear International, Inc. because it has not filed any periodic reports since the period ended May 31, 2008.

It appears to the Securities and Exchange Commission that there is a lack of current and accurate information concerning the securities of Imagin Molecular Corp. (n/k/a The Planet Bottle Corporation) because it has not filed any periodic reports since the period ended September 30, 2010.

It appears to the Securities and Exchange Commission that there is a lack of current and accurate information concerning the securities of Sungold International Holdings Corp. because it has not filed any periodic reports since the period ended August 31, 2008.

It appears to the Securities and Exchange Commission that there is a lack of current and accurate information concerning the securities of Westergaard.com, Inc. because it has not filed any periodic reports since the period ended June 30, 2011.

The Commission is of the opinion that the public interest and the protection of investors require a suspension of trading in the securities of the above-listed companies. Therefore, it is ordered, pursuant to Section 12(k) of the Securities Exchange Act of 1934, that trading in the securities of the above-listed companies is suspended for the period from 9:30 a.m. EDT on May 28, 2014, through 11:59 p.m. EDT on June 10, 2014.

By the Commission.
Jill M. Peterson,
Assistant Secretary.

[FR Doc. 2014-12669 Filed 5-28-14; 11:15 am]

BILLING CODE 8011-01-P